FEDERAL COMMUNICATIONS COMMISSION

Notice of Public Information Collection(s) Being Reviewed by the Federal Communications Commission

August 7, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before September 17, 2001. If you anticipate that you will be submitting comments, but find it difficult to do so within the period of time allowed by this notice, you should advise the contact listed below as soon as possible.

ADDRESSES: Direct all comments to Judy Boley, Federal Communications Commission, Room 1-C804, 445 12th Street, SW, Washington, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0824.

Title: Service Provider Information Form.

Form No.: FCC Form 498.

Type of Review: Extension of a currently approved collection.

Respondents: Business or other for-profit.

Number of Respondents: 10,000.

Estimated Time Per Response: 1 hour.

Frequency of Response: On occasion reporting requirement, and third party disclosure requirement.

Total Annual Burden: 10,000 hours.

Total Annual Cost: N/A.

Needs and Uses: Pursuant to 47 CFR Sections 54.515 and 54.611, the Administrator must obtain information relating to: service provider name and address, telephone number, Federal employee identification number, contact names and telephone numbers, and billing and collection information. FCC Form 498 has been designed to collect this information from carriers and service providers participating in the universal service program. The information will be used in the reimbursement of universal service support payments

OMB Control No.: 3060-0787.

Title: Implementation of the Subscriber Carrier Selection Changes Provisions of the Telecommunications Act of 1966; Policies and Rules Concerning Unauthorized Changes of Consumers Long Distance Carriers.

Form No.: FCC Form 478.

Type of Review: Extension of a currently approved collection.

Respondents: Individuals or households, business or other for-profit, and state, local, or tribal government.

Number of Respondents: 28,414.

Estimated Time Per Response: 2-10 hours.

Frequency of Response: Recordkeeping requirement; third party disclosure requirement; on occasion and semi-annual reporting requirements.

Total Annual Burden: 135,126 hours.

Total Annual Cost: N/A.

Needs and Uses: The goal of section 258 is to eliminate the practice of “slamming”, which is the unauthorized change of a subscriber's preferred carrier. The rules and requirements implementing section 258 can be found in 47 CFR part 64. The purpose of the rules is to improve the carrier change process for consumers and carriers alike, while making it more difficult for unscrupulous carriers to perpetrate slams. In addition, each telephone exchange and/or telephone toll provider is required to submit a semi-annual report on the number of slamming complaints it receives.

Federal Communications Commission.
Magalie Roman Salas,
Secretary.

[FR Doc. 01-20603 Filed 8-15-01; 8:45 am]

BILLING CODE 6712-01-P